DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Alaska Railroad Corporation

[Waiver Petition Docket Number FRA-2008-0161]

The Alaska Railroad Corporation (ARR), a Class II railroad, petitioned FRA for a waiver of compliance from certain provisions of the Passenger Equipment Safety Standards, as prescribed by 49 CFR * 238.303(c) Exterior Calendar day inspection and * 238.313 Class I brake test, for one set of conventional passenger equipment. Specifically, this waiver request applies to the seasonal Hurricane Turn passenger train. This service is operated from May through September, between Talkeetna, Alaska (Milepost (MP) 226), and Hurricane Gulch Bridge, Alaska (MP 284). This train provides “flag stop” service to residents as well as visitors to an area that has no road access. Until now, this service was provided using Buddy Company-built Railway Diesel Cars (RDC) that have been retired and replaced by two locomotives, one baggage car, and two passenger coach cars. The equipment makes a single round trip between Talkeetna and Hurricane, four days per week, only during the summer months. Until the retirement of RDC's, this service was covered under waiver Docket Number FRA-2002-11215.

ARR maintains mechanical facilities located at Fairbanks (MP 470) and Anchorage (MP 114), Alaska, where qualified maintenance employees are headquartered. The equipment is stored overnight at Talkeetna during the work week, and may be moved to Anchorage the other days for cleaning, supplies, and servicing. FRA requires a “qualified maintenance person” (QMP) conduct the daily exterior inspection and the Class I—initial terminal airbrake inspection each day the equipment is used. This requires ARR to assign a QMP to Talkeetna, where there is not enough work to support a position, or have an employee travel 224 miles (round trip) each day from Anchorage.

ARR requests that a QMP be authorized to complete the required daily exterior and airbrake inspections at Talkeetna at least once each week, during the months the equipment is stationed there. The equipment may be moved to Anchorage or a mechanical department road truck will travel to Talkeetna to have a QMP conduct the required inspections. Talkeetna is the only location that this relief is sought. Train crews will conduct the required inspection on all other days. ARR has safely operated the two RDC's under the conditions set by FRA's Railroad Safety Board in a decision letter dated June 11, 2002, under Docket Number FRA-2001-11215. ARR requests that since the original RDC equipment has been retired, the replacement conventional equipment be operated under the same conditions of that waiver, and FRA-2001-11215 be withdrawn due to the retirement of the covered equipment.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0161) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on May 13, 2009.
Grady C. Cothen, Jr.,
Deputy Associate Administrator for Safety Standards and Program Development.

[FR Doc. E9-11593 Filed 5-18-09; 8:45 am]

BILLING CODE 4910-06-P